DEPARTMENT OF HOMELAND SECURITY

Federal Emergency Management Agency

[Docket ID FEMA-2019-0002; Internal Agency Docket No. FEMA-B-1946]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before October 30, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1946, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Jefferson County, Colorado and Incorporated Areas
Project: 18-08-0038S Preliminary Date: November 30, 2018
City of Arvada | Engineering Department, 8101 Ralston Road, Arvada, CO 80002.
Unincorporated Areas of Jefferson County | Jefferson County Planning and Zoning Division, 100 Jefferson County Parkway, Suite 3550, Golden, CO 80419.
Bolivar County, Mississippi and Incorporated Areas
Project: 14-04-4749S Preliminary Date: November 14, 2018
Town of Renova | City Hall, 1339 Old Highway 61, Renova, MS 38732.
Unincorporated Areas of Bolivar County | Bolivar County Courthouse Administrator Office, 200 South Court Street, Cleveland, MS 38732.
Coahoma County, Mississippi and Incorporated Areas
Project: 14-04-2384S and 14-04-4749S Preliminary Date: November 14, 2018
City of Clarksdale | City Hall, City Clerk's Office, 121 Sunflower Avenue, Clarksdale, MS 38614.
Town of Lula | Town Hall, 118 2nd Street, Lula, MS 38644.
Unincorporated Areas of Coahoma County | Coahoma County Courthouse, 115 1st Street, Clarksdale, MS 38614.
Humphreys County, Mississippi and Incorporated Areas
Project: 14-04-4749S Preliminary Date: November 14, 2018
Town of Isola | Town Hall, 203 Julia Street, Isola, MS 38754.
Unincorporated Areas of Humphreys County | Humphreys County Courthouse Tax Assessor's Office, 102 Castleman Street, Belzoni, MS 39038.
Marshall County, Mississippi and Incorporated Areas
Project: 14-04-2384S Preliminary Date: November 14, 2018
City of Holly Springs | Utility Department, 1050 Highway 4 East, Holly Springs, MS 38635.
Town of Byhalia | Town Hall, 161 Highway 309 South, Byhalia, MS 38611.
Unincorporated Areas of Marshall County | Marshall County Zoning Department, 590 Highway 178 East, Holly Springs, MS 38635.
Panola County, Mississippi and Incorporated Areas
Project: 14-04-2384S and 14-04-2385S Preliminary Date: November 14, 2018 and February 13, 2019
City of Batesville | City Hall, 103 College Street, Batesville, MS 38606.
City of Sardis | City Hall, 114 West Lee Street, Sardis, MS 38666.
Unincorporated Areas of Panola County | Panola County Land Development Office, 245 Eureka Street, Batesville, MS 38606.
Quitman County, Mississippi and Incorporated Areas
Project: 14-04-2384S Preliminary Date: November 14, 2018
Unincorporated Areas of Quitman County | Quitman County Courthouse, 220 Chestnut Street, Suite 3, Marks, MS 38646.
Sharkey County, Mississippi and Incorporated Areas
Project: 14-04-4749S Preliminary Date: November 14, 2018
Unincorporated Areas of Sharkey County | Sharkey County Courthouse, 120 Locust Street, Rolling Fork, MS 39159.
Sunflower County, Mississippi and Incorporated Areas
Project: 14-04-4749S Preliminary Date: November 14, 2018
City of Indianola | City Hall, Inspections Department, 101 Front Street, Indianola, MS 38751.
Town of Sunflower | Town Hall, 103 East Quiver Street, Sunflower, MS 38778.
Unincorporated Areas of Sunflower County | Sunflower County Courthouse, EMA/Floodplain Office, 200 Main Street, Indianola, MS 38751.
Tallahatchie County, Mississippi and Incorporated Areas
Project: 14-04-2385S Preliminary Date: February 13, 2019
City of Charleston | City Hall, 26 South Court Square, Charleston, MS 38921.
Unincorporated Areas of Tallahatchie County | Tallahatchie County Courthouse, 1 Court Square, Charleston, MS 38921.
Tate County, Mississippi and Incorporated Areas
Project: 14-04-2384S Preliminary Date: November 14, 2018
Unincorporated Areas of Tate County | Tate County Emergency Management Office, 910 East F. Hale Drive, Senatobia, MS 38668.
Tunica County, Mississippi and Incorporated Areas
Project: 14-04-2384S Preliminary Date: November 14, 2018
Town of Tunica | Town Hall, 909 River Road, Tunica, MS 38676.
Unincorporated Areas of Tunica County | Tunica County Office of Planning and Development, 1061 South Court Street, Tunica, MS 38676.
Washington County, Mississippi and Incorporated Areas
Project: 14-04-4749S Preliminary Date: November 14, 2018
Unincorporated Areas of Washington County | Washington County Courthouse, Permits and Planning Department, 910 Courthouse Lane, Suite A, Greenville, MS 38702.
Yalobusha County, Mississippi and Incorporated Areas
Project: 14-04-2385S Preliminary Date: February 13, 2019
Town of Oakland | City Hall, 13863 Hickory Street, Oakland, MS 38948.
Unincorporated Areas of Yalobusha County | Yalobusha County Courthouse, 201 Blackmur Drive, Water Valley, MS 38965.

[FR Doc. 2019-16413 Filed 7-31-19; 8:45 am]

BILLING CODE 9110-12-P